DEPARTMENT OF LABOR

Mine Safety and Health Administration

Petition for Modification

AGENCY: Mine Safety and Health Administration, Labor.

ACTION: Notice; correction.

SUMMARY: This notice amends a notice published in the Federal Register on October 30, 2018, for Affirmative Decisions on Petitions for Modification Granted in Whole or in Part.

FOR FURTHER INFORMATION CONTACT: Roslyn B. Fontaine, 202-693-9440.

Correction

A petition for modification for Docket Number M-2017-019-C, for Marfork Coal Company, LLC, 500 Lee Street East, Suite 701 (25301), Post Office Box 2548, Charleston, West Virginia 25329, referenced in the October 30, 2018 Federal Register notice on page 54616 in the 1st column, was inadvertently listed in the notice as granted. The petition was not granted.

Roslyn B. Fontaine,
Deputy Director, Office of Standards, Regulations and Variances.

[FR Doc. 2018-24912 Filed 11-14-18; 8:45 am]

BILLING CODE 4520-43-P